DEPARTMENT OF ENERGY

Federal Energy Regulatory Commission

Combined Notice of Filings #1

Take notice that the Commission received the following electric rate filings:

Docket Numbers: ER17-615-005; ER12-1432-010; ER12-1435-010.

Applicants: Albany Green Energy, LLC, ReEnergy Livermore Falls LLC, ReEnergy Stratton LLC.

Description: Notice of Change in Status of Albany Green Energy, LLC, et al.

Filed Date: 7/19/21.

Accession Number: 20210719-5212.

Comments Due: 5 p.m. ET 8/9/21.

Docket Numbers: ER17-1433-003.

Applicants: PJM Interconnection, L.L.C.

Description: Compliance filing: FTR Forfeiture Rule Compliance Filing to be effective 12/31/9998.

Filed Date: 7/19/21.

Accession Number: 20210719-5186.

Comments Due: 5 p.m. ET 8/9/21.

Docket Numbers: ER21-55-001.

Applicants: Mesquite Power, LLC.

Description: Compliance filing: Supplement To Pending Cost Justification Filing of Mesquite Power, LLC to be effective N/A.

Filed Date: 7/19/21.

Accession Number: 20210719-5174.

Comments Due: 5 p.m. ET 8/9/21.

Docket Numbers: ER21-59-001.

Applicants: Brookfield Renewable Trading and Marketing LP.

Description: Compliance filing: Supplement to Oct 7, 2020 Justification of Spot Market Sales Above Soft Cap to be effective N/A.

Filed Date: 7/19/21.

Accession Number: 20210719-5166.

Comments Due: 5 p.m. ET 8/9/21.

Docket Numbers: ER21-2028-001.

Applicants: Tucson Electric Power Company.

Description: Tariff Amendment: Amendment to Filing of Service Agreement to be effective 5/1/2021.

Filed Date: 7/20/21.

Accession Number: 20210720-5045.

Comments Due: 5 p.m. ET 8/10/21.

Docket Numbers: ER21-2169-000.

Applicants: Entergy Arkansas, LLC.

Description: Report Filing: EAL Refund Report (ER21-2169) to be effective N/A.

Filed Date: 7/19/21.

Accession Number: 20210719-5124.

Comments Due: 5 p.m. ET 8/9/21.

Docket Numbers: ER21-2463-000.

Applicants: Public Service Company of New Mexico.

Description: Compliance filing: WECC Price cap to be effective 11/13/2020.

Filed Date: 7/19/21.

Accession Number: 20210719-5173.

Comments Due: 5 p.m. ET 8/9/21.

Docket Numbers: ER21-2464-000.

Applicants: Avangrid Renewables, LLC.

Description: Compliance filing: Spot Sales at Prices Exceeding the WECC “Soft” Cap to be effective N/A.

Filed Date: 7/19/21.

Accession Number: 20210719-5182.

Comments Due: 5 p.m. ET 8/9/21.

Docket Numbers: ER21-2465-000.

Applicants: Equilon Enterprises LLC.

Description: Compliance filing: New eTariff Baseline Filing to be effective 6/2/2021.

Filed Date: 7/20/21.

Accession Number: 20210720-5051.

Comments Due: 5 p.m. ET 8/10/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2021.
Debbie-Anne A. Reese,
Deputy Secretary.

[FR Doc. 2021-15850 Filed 7-23-21; 8:45 am]

BILLING CODE 6717-01-P